ENVIRONMENTAL PROTECTION AGENCY

40 CFR Part 81

[EPA-HQ-OAR-2012-0233; FRL 9841-4]

RIN 2060-AR18

Air Quality Designations for the 2010 Sulfur Dioxide (SO2) Primary National Ambient Air Quality Standard

AGENCY: Environmental Protection Agency (EPA).

ACTION: Final rule.

SUMMARY: This rule establishes air quality designations for certain areas in the United States for the 2010 primary Sulfur Dioxide (SO2) National Ambient Air Quality Standard (NAAQS). The EPA is issuing this rule to identify areas that, based on recorded air quality monitoring data showing violations of the NAAQS, do not meet the 2010 SO2 NAAQS and areas that contribute to SO2 air pollution in a nearby area that does not meet the SO2 NAAQS. At this time, the EPA is designating as nonattainment most areas in locations where existing monitoring data from 2009-2011 indicate violations of the 1-hour SO2 standard. The EPA intends to address in separate future actions the designations for all other areas for which the agency is not yet prepared to issue designations and that are consequently not addressed in this final rule. The Clean Air Act (CAA) directs areas designated nonattainment by this rule to undertake certain planning and pollution control activities to attain the NAAQS as expeditiously as practicable.

DATES: Effective Date: The effective date of this rule is October 4, 2013.

ADDRESSES: The EPA has established a docket for this action under Docket ID No. EPA-HQ-OAR-2012-0233. All documents in the docket are listed in the www.regulations.gov index. Although listed in the index, some information is not publicly available, i.e., Confidential Business Information or other information whose disclosure is restricted by statute. Certain other material, such as copyrighted material, is not placed on the Internet and will be publicly available only in hard copy form. Publicly available docket materials are available either electronically in www.regulations.gov or in hard copy at the EPA Docket Center, EPA West, Room 3334, 1301 Constitution Avenue NW., Washington, DC. The Public Reading Room is open from 8:30 a.m. to 4:30 p.m., Monday through Friday, excluding legal holidays. The telephone number for the Public Reading Room is (202) 566-1744 and the telephone number for the Air Docket is (202) 566-1742.

In addition, the EPA has established a Web site for this rulemaking at: http://www.epa.gov/so2designations. The Web site includes the EPA's final SO2 designations, as well as state and tribal initial recommendation letters, the EPA's modification letters, technical support documents, responses to comments and other related technical information.

FOR FURTHER INFORMATION CONTACT: For general questions concerning this action, please contact Rhonda Wright, U.S. EPA, Office of Air Quality Planning and Standards, Air Quality Planning Division, C539-04, Research Triangle Park, NC 27711, telephone (919) 541-1087, email at wright.rhonda@epa.gov.

SUPPLEMENTARY INFORMATION: Regional Office Contacts:

Region I—Donald Dahl (617) 918-1657,

Region II—Kenneth Fradkin (212) 637-3702,

Region III—Ruth Knapp (215) 814-2191,

Region IV—Lynorae Benjamin (404) 562-9040,

Region V—John Summerhays (312) 886-6067,

Region VI—Dayana Medina (214) 665-7241,

Region VII—Larry Gonzalez (913) 551-7041,

Region VIII—Crystal Ostigaard (303) 312-6602,

Region IX—John Kelly (415) 947-4151, and

Region X—Steve Body (206) 553-0782.

The public may inspect the rule and state-specific technical support information at the following locations:

Regional offices | States
Dave Conroy, Chief, Air Programs Branch, EPA New England, 1 Congress Street, Suite 1100, Boston, MA 02114-2023, (617) 918-1661 | Connecticut, Maine, Massachusetts, New Hampshire, Rhode Island and Vermont.
Richard Ruvo, Chief, Air Planning Section, EPA Region II, 290 Broadway, 25th Floor, New York, NY 10007-1866, (212) 637-4014 | New Jersey, New York, Puerto Rico and Virgin Islands.
Cristina Fernandez, Associate Director, Office of Air Program Planning, EPA Region III, 1650 Arch Street, Philadelphia, PA 19103-2187, (215) 814-2178 | Delaware, District of Columbia, Maryland, Pennsylvania, Virginia and West Virginia.
R. Scott Davis, Chief, Air Planning Branch, EPA Region IV, Sam Nunn Atlanta Federal Center, 61 Forsyth Street, SW, 12th Floor, Atlanta, GA 30303, (404) 562-9127 | Alabama, Florida, Georgia, Kentucky, Mississippi, North Carolina, South Carolina and Tennessee.
John Mooney, Chief, Air Programs Branch, EPA Region V, 77 West Jackson Street, Chicago, IL 60604, (312) 886-6043 | Illinois, Indiana, Michigan, Minnesota, Ohio and Wisconsin.
Guy Donaldson, Chief, Air Planning Section, EPA Region VI, 1445 Ross Avenue, Dallas, TX 75202, (214) 665-7242 | Arkansas, Louisiana, New Mexico, Oklahoma and Texas.
Joshua A. Tapp, Chief, Air Programs Branch, EPA Region VII, 11201 Renner Blvd., Lenexa, KS 66129, (913) 551-7606 | Iowa, Kansas, Missouri and Nebraska.
Gail Fallon, Acting Unit Chief, Air Quality Planning Unit, EPA Region VIII, 1595 Wynkoop Street, Denver, CO 80202-1129, (303) 312-6281 | Colorado, Montana, North Dakota, South Dakota, Utah and Wyoming.
Doris Lo, Air Planning Office, EPA Region IX, 75 Hawthorne Street, San Francisco, CA 94105, (415) 972-3959 | American Samoa, Arizona, California, Guam, Hawaii, Nevada and Northern Mariana Islands.
Debra Suzuki, Manager, State and Tribal Air Programs, EPA Region X, Office of Air, Waste, and Toxics, Mail Code OAQ-107, 1200 Sixth Avenue, Seattle, WA 98101, (206) 553-0985 | Alaska, Idaho, Oregon and Washington.

Table of Contents

The following is an outline of the Preamble.

I. Preamble Glossary of Terms and Acronyms

II. What is the purpose of this document?

III. What is sulfur dioxide?

IV. What is the 2010 SO2 NAAQS and what are the health concerns that it addresses?

V. What are the CAA requirements for air quality designations and what action has the EPA taken to meet these requirements?

VI. What guidance did the EPA issue and how did the EPA apply the statutory requirements and applicable guidance to determine area designations and boundaries?

VII. What air quality data has the EPA used?

VIII. How do designations affect Indian Country?

IX. Where can I find information forming the basis for this rule and exchanges between the EPA, states and tribes related to this rule?

X. Statutory and Executive Order Reviews

A. Executive Order 12866: Regulatory Planning and Review and Executive Order 13563: Improving Regulation and Regulatory Review

B. Paperwork Reduction Act

C. Regulatory Flexibility Act

D. Unfunded Mandates Reform Act

E. Executive Order 13132: Federalism

F. Executive Order 13175: Consultation and Coordination With Indian Tribal Governments

G. Executive Order 13045: Protection of Children from Environmental Health and Safety Risks

H. Executive Order 13211: Actions That Significantly Affect Energy Supply, Distribution, or Use

I. National Technology Transfer and Advancement Act (NTTAA)

J. Executive Order 12898: Federal Actions To Address Environmental Justice in Minority Populations and Low-Income Populations

K. Congressional Review Act

L. Judicial Review

I. Preamble Glossary of Terms and Acronyms

The following are abbreviations of terms used in the preamble.

APA Administrative Procedure Act

CAA Clean Air Act

CFR Code of Federal Regulations

DC District of Columbia

EO Executive Order

EPA Environmental Protection Agency

FR Federal Register

NAAQS National Ambient Air Quality Standards

NTTAA National Technology Transfer and Advancement Act

OMB Office of Management and Budget

SO2 Sulfur Dioxide

SOX Sulfur Oxides

RFA Regulatory Flexibility Act

SIP State Implementation Plan

UMRA Unfunded Mandate Reform Act of 1995

TAR Tribal Authority Rule

TSD Technical Support Document

U.S. United States

VCS Voluntary Consensus Standards

II. What is the purpose of this document?

The purpose of this action is to announce and promulgate designations and boundaries for certain areas of the country not meeting the 2010 SO2 NAAQS based on available information, in accordance with the requirements of the CAA. The initial list of areas being designated nonattainment in each state and the boundaries of each area appear in the tables within the regulatory text.

This notice identifies the 29 initial areas being designated as nonattainment areas for the 2010 SO2 NAAQS. The basis for designating each area as “nonattainment” is monitored air quality data from calendar years 2009-2011 indicating a violation of the NAAQS in the area. For these areas being designated nonattainment, the CAA directs states to develop State Implementation Plans (SIPs) that meet the requirements of sections 172(c) and 191-192 of the CAA and provide for attainment of the NAAQS as expeditiously as practicable, but no later than October 4, 2018. The CAA directs states to submit these SIPs to the EPA within 18 months of the effective date of these designations, i.e., by April 6, 2015.

III. What is sulfur dioxide?

SO2 is one of a group of highly reactive gasses known as “oxides of sulfur” (SOX). The largest sources of SO2 emissions are from fossil fuel combustion at power plants (73 percent) and other industrial facilities (20 percent). Smaller sources of SO2 emissions include industrial processes, such as extracting metal from ore, and the burning of high sulfur containing fuels by locomotives, large ships and non-road equipment. SO2 is linked with a number of adverse effects on the respiratory system.

IV. What is the 2010 SO2 NAAQS and what are the health concerns that it addresses?

The Administrator signed a final rule revising the primary SO2 NAAQS on June 2, 2010. The rule was published in the Federal Register on June 22, 2010 (75 FR 35520), and became effective on August 23, 2010. Based on the Administrator's review of the air quality criteria for oxides of sulfur and the primary NAAQS for oxides of sulfur as measured by SO2, the EPA revised the primary SO2 NAAQS to provide requisite protection of public health with an adequate margin of safety. Specifically, the EPA established a new 1-hour SO2 standard at a level of 75 parts per billion (ppb), which is met at an ambient air quality monitoring site when the 3-year average of the annual 99th percentile of 1-hour daily maximum concentrations is less than or equal to 75 ppb, as determined in accordance with Appendix T of 40 CFR part 50. 40 CFR 50.17(a)-(b). The EPA also established provisions to revoke both the existing 24-hour and annual primary SO2 standards, subject to certain conditions. 40 CFR 50.4(e).

Current scientific evidence links short-term exposures to SO2, ranging from 5 minutes to 24 hours, with an array of adverse respiratory effects including bronchoconstriction and increased asthma symptoms. These effects are particularly important for asthmatics at elevated ventilation rates (e.g., while exercising or playing). Studies also show a connection between short-term exposure and increased visits to emergency departments and hospital admissions for respiratory illnesses, particularly in at-risk populations including children, the elderly and asthmatics.

The EPA's NAAQS for SO2 is designed to protect against exposure to the entire group of SOX. SO2 is the component of greatest concern and is used as the indicator for the larger group of gaseous SOX. Other gaseous SOX (e.g., SO3) are found in the atmosphere at concentrations much lower than SO2.

Emissions that lead to high concentrations of SO2 generally also lead to the formation of other SOX. Control measures that reduce SO2 can generally be expected to reduce people's exposures to all gaseous SOX. This may also have the important co-benefit of reducing the formation of fine sulfate particles, which pose significant public health threats. SOX can react with other compounds in the atmosphere to form small particles. These particles penetrate deeply into sensitive parts of the lungs and can cause or worsen respiratory disease, such as emphysema and bronchitis, and can aggravate existing heart disease, leading to increased hospital admissions and premature death.¹ The EPA's NAAQS for particulate matter are designed to provide protection against these health effects.

¹ See Fact Sheet Revisions to the Primary National Ambient Air Quality Standard, Monitoring Network, and Data Reporting Requirements for Sulfur Dioxide at http://www.epa.gov/airquality/sulfurdioxide/pdfs/20100602fs.pdf.

V. What are the CAA requirements for air quality designations and what action has the EPA taken to meet these requirements?

After the promulgation of a new or revised NAAQS, the EPA is required to designate areas as “nonattainment,” “attainment,” or “unclassifiable,” pursuant to section 107(d)(1) of the CAA.

The process for designating areas following promulgation of a new or revised NAAQS is contained in section 107(d) of the CAA. The CAA requires the EPA to complete the initial designations process within 2 years of promulgating a new or revised standard. If the Administrator has insufficient information to make these designations by that deadline, the EPA has the authority to extend the deadline for completing designations by up to 1 year. On July 27, 2012, the EPA announced that it had insufficient information to complete the designations for the 1-hour SO2 standard within 2 years and extended the designations deadline to June 3, 2013.

At this time, the EPA is initially designating as nonattainment most areas in locations where existing monitoring data from 2009-2011 indicate violations of the 1-hour SO2 standard. In some cases, we have had to use data from a different three-year period or are still evaluating whether data from 2009-2011 are influenced by exceptional events. In separate future actions, the EPA intends to address the designations for all other areas for which the agency is not yet prepared to issue designations and that are consequently not addressed in this final rule. With input from a diverse group of stakeholders, the EPA has developed a comprehensive implementation strategy for the future SO2 designations actions that focuses resources on identifying and addressing unhealthy levels of SO2 in areas where people are most likely to be exposed to violations of the standard. For informational purposes, the strategy is available at: http://www.epa.gov/airquality/sulfurdioxide/implement.html. The EPA plans to continue to work closely with state, tribal and local air quality management agencies to ensure health-protective, commonsense implementation of the 1-hour SO2 NAAQS.

By not later than 1 year after the promulgation of a new or revised NAAQS, CAA section 107(d)(1)(A) provides that each state governor is required to recommend air quality designations, including the appropriate boundaries for areas, to the EPA. The EPA reviews those state recommendations and is authorized to make any modifications the Administrator deems necessary. The statute does not define the term “necessary,” but the EPA interprets this to authorize the Administrator to modify designations that did not meet the statutory requirements or were otherwise inconsistent with the facts or analysis deemed appropriate by the EPA. If the EPA is considering modifications to a state's initial recommendation, the EPA is required to notify the state of any such intended modifications to its recommendation not less than 120 days prior to the EPA's promulgation of the final designation. During this period of no less than 120 days, if the state does not agree with the EPA's modification, it has an opportunity to respond to the EPA and to demonstrate why it believes the modification proposed by the EPA is inappropriate, as contemplated by section 107(d)(1)(B)(ii). Even if a state fails to provide any recommendation for an area, in whole or in part, the EPA still must promulgate a designation that the Administrator deems appropriate, pursuant to section 107(d)(1)(B)(ii).

Section 107(d)(1)(A)(i) of the CAA defines a nonattainment area as any area that does not meet an ambient air quality standard or that is contributing to ambient air quality in a nearby area that does not meet the standard. If an area meets either prong of this definition, then the EPA is obligated to designate the area as “nonattainment.”

The EPA believes that section 107(d) provides the agency with discretion to determine how best to interpret the terms in the definition of a nonattainment area (e.g., “contributes to” and “nearby”) for a new or revised NAAQS, given considerations such as the nature of a specific pollutant, the types of sources that may contribute to violations, the form of the standards for the pollutant, and other relevant information. In particular, the EPA believes that the statute does not require the agency to establish bright line tests or thresholds for what constitutes “contribution” or “nearby” for purposes of designations.²

² This view was confirmed in Catawba County v. EPA, 571 F.3d 20 (DC Cir. 2009).

Similarly, the EPA believes that the statute permits the EPA to evaluate the appropriate application of the term “area” to include geographic areas based upon full or partial county boundaries, and contiguous or non-contiguous areas, as may be appropriate for a particular NAAQS. For example, section 107(d)(1)(B)(ii) explicitly provides that the EPA can make modifications to designation recommendations for an area “or portions thereof,” and under section 107(d)(1)(B)(iv) a designation remains in effect for an area “or portion thereof” until the EPA redesignates it.

Designation activities for federally-recognized tribal governments are covered under the authority of section 301(d) of the CAA. This provision of the CAA authorizes the EPA to treat eligible tribes in a similar manner as states. Pursuant to section 301(d)(2), the EPA promulgated regulations, known as the Tribal Authority Rule (TAR), on February 12, 1999. 63 FR 7254, codified at 40 CFR part 49. That rule specifies those provisions of the CAA for which it is appropriate to treat tribes in a similar manner as states. Under the TAR, tribes may choose to develop and implement their own CAA programs, but are not required to do so. The TAR also establishes procedures and criteria by which tribes may request from the EPA a determination of eligibility for such treatment. The designations process contained in section 107(d) of the CAA is included among those provisions determined to be appropriate by the EPA for treatment of tribes in the same manner as states. Under the TAR, tribes generally are not subject to the same submission schedules imposed by the CAA on states. As authorized by the TAR, tribes may seek eligibility to submit designation recommendations to the EPA. In addition, CAA section 301(d)(4) gives the EPA discretionary authority, in cases where it determines that treatment of tribes as identical to states is “inappropriate or administratively infeasible,” to provide for direct administration by regulation to achieve the appropriate purpose.

To date, six tribes have applied under the TAR for eligibility to submit its own recommendations under section 107(d). Nonetheless, the EPA invited all tribes to submit recommendations concerning designations for the 2010 SO2 NAAQS. The EPA worked with the tribes that requested an opportunity to submit designation recommendations. Tribes were provided an opportunity to submit their own recommendations and supporting documentation and could also comment on state recommendations and the EPA modifications.

Designation recommendations and supporting documentation were submitted by most states and several tribes to the EPA by June 3, 2011. After receiving these recommendations, and after reviewing and evaluating each recommendation, the EPA provided a response to the states and tribes on February 7, 2013.³ In these letter responses, we indicated whether the EPA intended to make modifications to the initial state or tribal recommendations and explained the EPA's reasons for making any such modifications. For the majority of the areas, the EPA agreed with the state's recommended boundary. The EPA requested that states and tribes respond to any proposed EPA modifications by April 8, 2013. The EPA received comments from some states suggesting changes to the EPA's proposed modifications and providing additional information. The EPA evaluated these comments, and all of the timely supporting technical information provided. As a result, and based on that input and analysis, some of the final designations reflect further modifications to the initial state recommendations. The state and tribal letters, including the initial recommendations, the EPA's February 2013 responses to those letters, any modifications, and the subsequent state comment letters, are in the docket for this action.

³ As indicated in the February 2013 letters, the EPA is not yet prepared to designate any areas in Indian country. The EPA intends to address the designations for these areas in separate future actions.

Although not required by section 107(d) of the CAA, the EPA also provided an opportunity for members of the public to comment on the EPA's February 2013 response letters. In order to gather additional information for the EPA to consider before making final designations, the EPA published a notice on February 15, 2013 (78 FR 1124) which invited the public to comment on the EPA's intended designations. In the notice, the EPA stated that public comments must be received on or before March 18, 2013. The EPA received several requests from stakeholders for additional time to prepare their comments. Some of the requesters noted that the original 30-day comment period was insufficient time to review the EPA's responses to states' and tribes' recommended designations and to compile meaningful responses due to the complexity of the issues impacting certain areas. Taking that into consideration, the EPA extended the public comment period to April 8, 2013. State and tribal initial recommendations and the EPA's responses, including modifications, were posted on a publically accessible Web site (http://www.epa.gov/so2designations). Timely comments from the public and the EPA's responses to significant comments are in the docket for this action.

VI. What guidance did the EPA issue and how did the EPA apply the statutory requirements and applicable guidance to determine area designations and boundaries?

In the notice of proposed rulemaking for the revised SO2 NAAQS (74 FR 64810; December 8, 2009), the EPA issued proposed guidance on its approach to implementing the standard, including its approach to initial area designations. The EPA solicited comment on that guidance and, in the notice of final rulemaking (75 FR 35520; June 22, 2010), provided further guidance concerning implementation of the standard and how to identify nonattainment areas and boundaries for the SO2 NAAQS. Subsequently, on March 24, 2011, the EPA provided additional designations guidance to assist states with making their recommendations for area designations and boundaries.⁴ In that guidance, the EPA recommended that monitoring data from the most recent three consecutive years be used to identify a violation of the SO2 NAAQS. This is appropriate because the form of the SO2 NAAQS is calculated as a 3-year average of the 99th percentile of the yearly distribution of 1-hour daily maximum SO2 concentrations (specifically the most recent 3 consecutive years).⁵ The EPA is basing these initial final designations on monitored SO2 concentrations from Federal Reference Method and Federal Equivalent Method monitors that are sited and operated in accordance with 40 CFR Parts 50 and 58. The EPA notes that data from 2008-2010 were the most recent data available to states and tribes when they made their recommendations to the EPA in June 2011. Accordingly, although the determination of whether an area violates the standard was based on 2009-2011 data, the EPA considered state recommendations and data from 2008-2010, as appropriate, in determining boundaries for nonattainment areas.

⁴ See, “Area Designations for the 2010 Revised Primary Sulfur Dioxide National Ambient Air Quality Standards,” memorandum to Regional Air Division Directors, Regions I-X, from Stephen D. Page, dated March 24, 2011.

⁵ This notice refers to monitoring data for “calendar years 2009-2011” which includes data from January 2009 through December 2011.

In the guidance, the EPA stated that the perimeter of a county containing a violating monitor would be the initial presumptive boundary for nonattainment areas, but also stated that the state, tribe and/or the EPA could conduct additional area-specific analyses that could justify establishing either a larger or smaller area. The EPA indicated that the following factors should be considered in an analysis of whether to exclude portions of a county and whether to include additional nearby areas outside the county as part of the designated nonattainment area: (1) Air quality data; (2) emissions-related data; (3) meteorology; (4) geography/topography; and (5) jurisdictional boundaries, as well as other available data. States and tribes may identify and evaluate other relevant factors or circumstances specific to a particular area.

Most states and several tribes submitted their designations recommendations in June 2011. In each case, the EPA reviewed the state recommendations and, where appropriate, the EPA accepted the state's recommendations. However, where the EPA determined that changes were necessary to a state's initial recommendation, we conveyed those preliminary determinations to the state in February 2013, and have worked with states to further review appropriate boundaries.

VII. What air quality data has the EPA used?

The final SO2 designations contained in this action are based upon violations of the NAAQS determined by air quality monitoring data from calendar years 2009-2011, except where it was necessary or appropriate to use a different three-year period. The form of the standard requires a calculation of monitoring values from 3 consecutive years. The 1-hour primary standard is violated at an ambient air quality monitoring site when the 3-year average of the annual 99th percentile of the daily maximum 1-hour average concentrations exceeds 75 ppb, as determined in accordance with appendix T of 40 CFR part 50. For comparison to the level of the standard, ambient air quality shall be measured by a reference method based on appendix A or A-1, or by a Federal Equivalent Method designated in accordance with 40 CFR part 53.

VIII. How do designations affect Indian Country?

All counties, partial counties or Air Quality Control Regions listed in the tables within the regulatory text are designated as indicated. For the first round of SO2 designations, the EPA is only designating certain nonattainment areas shown to be violating the NAAQS based on monitored data. There are no areas in Indian Country being designated nonattainment at this time. All remaining areas, including areas of Indian Country, for which the EPA is not yet prepared to issue final designations will be addressed in a subsequent round of designations.

IX. Where can I find information forming the basis for this rule and exchanges between the EPA, States and tribes related to this rule?

Information providing the basis for this action are provided in several technical support documents (TSDs), a response to comments document (RTC) and other information in the docket. The TSDs, RTC, applicable EPA's guidance memoranda, copies of correspondence regarding this process between the EPA and the states, tribes and other parties, are available for review at the EPA Docket Center listed above in the ADDRESSES section of this document and on the agency's SO2 Designations Web site at http://www.epa.gov/so2designations. Area-specific questions can be addressed to the EPA Regional Offices.

X. Statutory and Executive Order Reviews

Upon promulgation of a new or revised NAAQS, the CAA requires the EPA to designate areas as attaining or not attaining the NAAQS. The CAA then specifies requirements for areas based on whether such areas are attaining or not attaining the NAAQS. In this final rule, the EPA assigns designations to selected areas as required.

A. Executive Order 12866: Regulatory Planning and Review and Executive Order 13563: Improving Regulation and Regulatory Review

This action responds to the CAA requirement to promulgate air quality designations after promulgation of a new or revised NAAQS. This type of action is exempt from review under Executive Orders 12866 (58 FR 51735, October 4, 1993) and 13563 (67 FR 3821, January 21, 2011).

B. Paperwork Reduction Act

This action does not impose an information collection burden under the provisions of the Paperwork Reduction Act, 44 U.S.C. 3501 et seq. Burden is defined at 5 CFR 1320.3(b). This action responds to the requirement to promulgate air quality designations after promulgation of a new or revised NAAQS. This requirement is prescribed in the CAA section 107 of title 1. This action does not establish any new information collection apart from that already required by law.

C. Regulatory Flexibility Act

This final rule is not subject to the Regulatory Flexibility Act (RFA), which generally requires an agency to prepare a regulatory flexibility analysis for any rule that will have a significant economic impact on a substantial number of small entities. The RFA applies only to rules subject to notice-and-comment rulemaking requirements under the Administrative Procedure Act (APA) or any other statute. This action is not subject to notice-and-comment requirements under the APA or any other statute because the action is not subject to the APA. CAA section 107(d)(2)(B) does not require the EPA to issue a notice of proposed rulemaking before issuing this final action.

D. Unfunded Mandates Reform Act

This action contains no federal mandate under the provisions of Title II of the Unfunded Mandates Reform Act of 1995 (UMRA), 2 U.S.C. 1531-1538 for state, local or tribal governments or the private sector. The action imposes no enforceable duty on any state, local or tribal governments or the private sector. Therefore, this action is not subject to the requirements of sections 202 and 205 of the UMRA.

This action is also not subject to the requirements of section 203 of UMRA because it contains no regulatory requirements that might significantly or uniquely affect small governments. It does not create any additional requirements beyond those of the CAA and SO2 NAAQS (40 CFR 50.17); therefore, no UMRA analysis is needed. This action establishes nonattainment designations for certain areas of the country for the 2010 SO2 NAAQS. The CAA requires states to develop plans, including control measures, based on the designations for areas within the state.

The EPA believes that any new controls imposed as a result of this action will not cost in the aggregate $100 million or more annually. Thus, this federal action will not impose mandates that will require expenditures of $100 million or more in the aggregate in any 1 year.

E. Executive Order 13132: Federalism

This final action does not have federalism implications. It will not have substantial direct effects on the states, on the relationship between the national government and the states or on the distribution of power and responsibilities among the various levels of government, as specified in Executive Order 13132. The CAA establishes the process whereby states take primary responsibility in developing plans to meet the SO2 NAAQS in areas designated nonattainment by this action. This action will not modify the relationship of the states and the EPA for purposes of developing programs to attain and maintain the SO2 NAAQS. Thus, Executive Order 13132 does not apply to this action.

F. Executive Order 13175: Consultation and Coordination With Indian Tribal Governments

This action does not have tribal implications, as specified in Executive Order 13175 (65 FR 67249, November 9, 2000). This action concerns the designation of certain areas as nonattainment for the 2010 SO2 NAAQS, but no areas of Indian Country are being designated by this action. Because this action does not have tribal implications, Executive Order 13175 does not apply.

Although Executive Order 13175 does not apply to this rule, the EPA communicated with tribal leaders and environmental staff regarding the designations process. The EPA also sent individualized letters to all federally recognized tribes to explain the designation process for the 2010 SO2 NAAQS, to provide the EPA designations guidance, and to offer consultation with the EPA. The EPA provided further information to tribes through presentations at the National Tribal Forum and through participation in National Tribal Air Association conference calls. The EPA also sent individualized letters to all federally recognized tribes that submitted recommendations to the EPA about the EPA's intended designations for the SO2 standards and offered tribal leaders the opportunity for consultation. These communications provided opportunities for tribes to voice concerns to the EPA about the general designations process for the 2010 SO2 NAAQS, as well as concerns specific to a tribe, and informed the EPA about key tribal concerns regarding designations as the rule was under development.

G. Executive Order 13045: Protection of Children From Environmental Health and Safety Risks

The action is not subject to Executive Order 13045 (62 FR 19885, April 23, 1997) because it is not an economically significant regulatory action as defined in Executive Order 12866. While not subject to the Executive Order, this final action may be especially important for asthmatics, including asthmatic children, living in SO2 nonattainment areas because respiratory effects in asthmatics are among the most sensitive health endpoints for SO2 exposure. Because asthmatic children are considered a sensitive population, the EPA evaluated the potential health effects of exposure to SO2 pollution among asthmatic children as part of the EPA's prior action establishing the 2010 SO2 NAAQS. These effects and the size of the population affected are summarized in the EPA's final SO2 NAAQS rules. See http://www.epa.gov/ttn/naaqs/standards/so2/fr/20100622.pdf.

H. Executive Order 13211: Actions That Significantly Affect Energy Supply, Distribution, or Use

This action is not subject to Executive Order 13211 (66 FR 28355 (May 22, 2001)), because it is not a significant regulatory action under Executive Order 12866.

I. National Technology Transfer and Advancement Act (NTTAA)

Section 12(d) of the NTTAA of 1995, Public Law 104-113, section 12(d) (15 U.S.C. 272 note) directs the EPA to use voluntary consensus standards (VCS) in its regulatory activities unless to do so would be inconsistent with applicable law or otherwise impracticable. VCS are technical standards (e.g., materials specifications, test methods, sampling procedures and business practices) that are developed or adopted by VCS bodies. The NTTAA directs the EPA to provide Congress, through OMB, explanations when the agency decides not to use available and applicable VCS.

This action does not involve technical standards. Therefore, the EPA did not consider the use of any VCS.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies and activities on minority populations and low-income populations in the U.S.

The CAA requires that the EPA designate as nonattainment “any area that does not meet (or that contributes to ambient air quality in a nearby area that does not meet) the national primary or secondary ambient air quality standard for the pollutant.” By designating as nonattainment areas where available information indicate a violation of the 2010 SO2 NAAQS or a contribution to a nearby violation, this action protects all those residing, working, attending school, or otherwise present in those areas regardless of minority or economic status.

The EPA has determined that this final rule will not have disproportionately high and adverse human health or environmental effects on minority or low-income populations because it increases the level of environmental protection for all affected populations without having any disproportionately high and adverse human health or environmental effects on any population, including any minority or low-income population.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the U.S. The EPA will submit a report containing this action and other required information to the U.S. Senate, the U.S. House of Representatives and the Comptroller General of the U.S. prior to publication of the rule in the Federal Register. A major rule cannot take effect until 60 days after it is published in the Federal Register. This action is not a “major rule” as defined by 5 U.S.C. 804(2). This rule will be effective October 4, 2013.

L. Judicial Review

Section 307(b)(1) of the CAA indicates which Federal Courts of Appeal have venue for petitions of review of final actions by the EPA. This section provides, in part, that petitions for review must be filed in the Court of Appeals for the District of Columbia Circuit: (i) When the agency action consists of “nationally applicable regulations promulgated, or final actions taken, by the Administrator,” or (ii) when such action is locally or regionally applicable, if “such action is based on a determination of nationwide scope or effect and if in taking such action the Administrator finds and publishes that such action is based on such a determination.”

This final action designating areas for the 2010 SO2 NAAQS is “nationally applicable” within the meaning of section 307(b)(1). This final action establishes designations for areas across the U.S. for the 2010 SO2 NAAQS. At the core of this final action is the EPA's interpretation of the definition of nonattainment under section 107(d)(1) of the CAA, and its application of that interpretation to areas across the country. For the same reasons, the Administrator also is determining that the final designations are of nationwide scope and effect for the purposes of section 307(b)(1). This is particularly appropriate because, in the report on the 1977 Amendments that revised section 307(b)(1) of the CAA, Congress noted that the Administrator's determination that an action is of “nationwide scope or effect” would be appropriate for any action that has a scope or effect beyond a single judicial circuit. H.R. Rep. No. 95-294 at 323, 324, reprinted in 1977 U.S.C.C.A.N. 1402-03. Here, the scope and effect of this final action extends to numerous judicial circuits since the designations apply to areas across the country. In these circumstances, section 307(b)(1) and its legislative history calls for the Administrator to find the action to be of “nationwide scope or effect” and for venue to be in the DC Circuit.

Thus, any petitions for review of final designations must be filed in the Court of Appeals for the District of Columbia Circuit within 60 days from the date final action is published in the Federal Register.

List of Subjects in 40 CFR Part 81

Environmental protection, Air pollution control, National parks, Wilderness areas.

Dated: July 25, 2013.
Gina McCarthy,
EPA Administrator.

For the reasons set forth in the preamble, 40 CFR part 81 is amended as follows:

PART 81—DESIGNATIONS OF AREAS FOR AIR QUALITY PLANNING PURPOSES

1. The authority citation for part 81 continues to read as follows:

Authority: 42 U.S.C. 7401, et seq.

Subpart C—Section 107 Attainment Status Designations

§ 81.301 [Amended]

2. Section 81.301 is amended by revising the table heading for “Alabama—Sulfur Dioxide” to read “Alabama—1971 Sulfur Dioxide NAAQS (Primary and Secondary)”.

§ 81.302 [Amended]

3. Section 81.302 is amended by revising the table heading for “Alaska—SO2” to read “Alaska—1971 Sulfur Dioxide NAAQS (Primary and Secondary)”.

4. Section 81.303 is amended as follows:

a. By revising the table heading for “Arizona—SO2” to read “Arizona—1971 Sulfur Dioxide NAAQS (Primary and Secondary)”; and

b. By adding a new table entitled “Arizona—2010 Sulfur Dioxide NAAQS (Primary)” following the newly designated table “Arizona—1971 Sulfur Dioxide NAAQS (Primary and Secondary)” to read as follows:

§ 81.303 Arizona.

* * * * *

Arizona—2010 Sulfur Dioxide NAAQS (Primary)
Designated area | Designation: Date | Designation: Type
Hayden, AZ ¹ | 10-4-13 | Nonattainment.
Gila County (part)
The portions of Gila County that are bounded by: T4S, R14E; T4S, R15E; T4S, R16E; T5S, R15E; T5S, R16E
Pinal County (part)
The portions of Pinal County that are bounded by: T4S, R14E; T4S, R15E; T4S, R16E; T5S, R14E; T5S, R15E; T5S, R16E; T6S, R14E; T6S, R15E; T6S, R16E
Miami, AZ ¹ | 10-4-13 | Nonattainment.
Gila County (part)
The portions of Gila County that are bounded by: T2N, R14E; T2N, R15E; T1N, R13E; T1N, R14E; T1N, R15E; T1S, R14E; T1S, R14 1/2E; T1S, R15E
¹ Excludes Indian country located in each area, if any, unless otherwise specified.

* * * * *

§ 81.304 [Amended]

5. Section 81.304 is amended by revising the table heading for “Arkansas—SO2” to read “Arkansas—1971 Sulfur Dioxide NAAQS (Primary and Secondary)”.

§ 81.305 [Amended]

6. Section 81.305 is amended by revising the table heading for “California—SO2” to read “California—1971 Sulfur Dioxide NAAQS (Primary and Secondary)”.

§ 81.306 [Amended]

7. Section 81.306 is amended by revising the table heading for “Colorado—SO2” to read “Colorado—1971 Sulfur Dioxide NAAQS (Primary and Secondary)”.

§ 81.307 [Amended]

8. Section 81.307 is amended by revising the table heading for “Connecticut—SO2” to read “Connecticut—1971 Sulfur Dioxide NAAQS (Primary and Secondary)”.

§ 81.308 [Amended]

9. Section 81.308 is amended by revising the table heading for “Delaware—SO2” to read “Delaware—1971 Sulfur Dioxide NAAQS (Primary and Secondary)”.

§ 81.309 [Amended]

10. Section 81.309 is amended by revising the table heading for “District of Columbia—SO2” to read “District of Columbia—1971 Sulfur Dioxide NAAQS (Primary and Secondary)”.

11. Section 81.310 is amended as follows:

a. By revising the table heading for “Florida—SO2” to read “Florida—1971 Sulfur Dioxide NAAQS (Primary and Secondary)”; and

b. By adding a new table entitled “Florida—2010 Sulfur Dioxide NAAQS (Primary)” following the newly designated table “Florida—1971 Sulfur Dioxide NAAQS (Primary and Secondary)” to read as follows:

§ 81.310 Florida.

* * * * *

Florida—2010 Sulfur Dioxide NAAQS (Primary)
Designated area | Designation: Date | Designation: Type
Hillsborough County, FL ¹ | 10-4-13 | Nonattainment.
Hillsborough County (part)
That portion of Hillsborough County encompassed by the polygon with the vertices using Universal Traverse Mercator (UTM) coordinates in UTM zone 17 with datum NAD83 as follows: (1) vertices—UTM Easting (m) 35881, UTM Northing 3076066; (2) vertices—UTM Easting (m) 355673, UTM Northing 3079275; (3) UTM Easting (m) 360300, UTM Northing 3086380; (4) vertices—UTM Easting (m) 366850, UTM Northing 3086692; (5) vertices—UTM Easting (m) 368364, UTM Northing 3083760; and (6) vertices—UTM Easting (m) 365708, UTM Northing 3079121
Nassau County, FL ¹ | 10-4-13 | Nonattainment.
Nassau County, (part)
That portion of Nassau County encompassing the circular boundary with the center being UTM Easting 455530 meters, UTM Northing 3391737 meters, UTM zone 17, using the NAD83 datum (the location of the violating ambient monitor) and the radius being 2.4 kilometers
¹ Excludes Indian country located in each area, if any, unless otherwise specified.

* * * * *

§ 81.311 [Amended]

12. Section 81.311 is amended by revising the table heading for “Georgia—SO2” to read “Georgia—1971 Sulfur Dioxide NAAQS (Primary and Secondary)”.

§ 81.312 [Amended]

13. Section 81.312 is amended by revising the table heading for “Hawaii—SO2” to read “Hawaii—1971 Sulfur Dioxide NAAQS (Primary and Secondary)”.

§ 81.313 [Amended]

14. Section 81.313 is amended by revising the table heading for “Idaho—SO2” to read “Idaho—1971 Sulfur Dioxide NAAQS (Primary and Secondary)”.

15. Section 81.314 is amended as follows:

a. By revising the table heading for “Illinois—SO2” to read “Illinois—1971 Sulfur Dioxide NAAQS (Primary and Secondary)”; and

b. By adding a new table entitled “Illinois—2010 Sulfur Dioxide NAAQS (Primary)” following the newly designated table “Illinois—1971 Sulfur Dioxide NAAQS (Primary and Secondary)” to read as follows:

§ 81.314 Illinois.

* * * * *

Illinois—2010 Sulfur Dioxide NAAQS (Primary)
Designated area | Designation: Date | Designation: Type
Lemont, IL ¹ | 10-4-13 | Nonattainment.
Cook County (part)
Lemont Township
Will County (part)
DuPage Township and Lockport Township
Pekin, IL ¹ | 10-4-13 | Nonattainment.
Tazewell County (part)
Cincinnati Township and Pekin Township
Peoria County (part)
Hollis Township
¹ Excludes Indian country located in each area, if any, unless otherwise specified.

* * * * *

16. Section 81.315 is amended as follows:

a. By revising the table heading for “Indiana—SO2” to read “Indiana—1971 Sulfur Dioxide NAAQS (Primary and Secondary)”; and

b. By adding a new table entitled “Indiana—2010 Sulfur Dioxide NAAQS (Primary)” following the newly designated table “Indiana—1971 Sulfur Dioxide NAAQS (Primary and Secondary)” to read as follows:

§ 81.315 Indiana.

* * * * *

Indiana—2010 Sulfur Dioxide NAAQS (Primary)
Designated area | Designation: Date | Designation: Type
Indianapolis, IN ¹ | 10-4-13 | Nonattainment.
Marion County (part)
Wayne Township, Center Township, Perry Township
Morgan County, IN ¹ | 10-4-13 | Nonattainment.
Morgan County (part)
Clay Township, Washington Township
Southwest Indiana, IN ¹ | 10-4-13 | Nonattainment.
Daviess County (part)
Veale Township
Pike County (part)
Washington Township
Terre Haute, IN ¹ | 10-4-13 | Nonattainment.
Vigo County (part)
Fayette Township, Harrison Township
¹ Excludes Indian country located in each area, if any, unless otherwise specified.

* * * * *

17. Section 81.316 is amended as follows:

a. By revising the table heading for “Iowa—SO2” to read “Iowa—1971 Sulfur Dioxide NAAQS (Primary and Secondary)”; and

b. By adding a new table entitled “Iowa—2010 Sulfur Dioxide NAAQS (Primary)” following the newly designated table “Iowa—1971 Sulfur Dioxide NAAQS (Primary and Secondary)” to read as follows:

§ 81.316 Iowa.

* * * * *

Iowa—2010 Sulfur Dioxide NAAQS (Primary)
Designated area | Designation: Date | Designation: Type
Muscatine, IA¹ | 10-4-13 | Nonattainment.
Muscatine County (part)
Sections 1-3, 10-15, 22-27, 34-36 of T77N, R3W (Lake Township)
Sections 1-3, 10-15, 22-27, 34-36 of T76N, R3W (Seventy-six Township)
T77N, R2W (Bloomington Township).
T76N, R2W (Fruitland Township)
All sections except 1, 12, 13, 24, 25, 36 of T77N, R1W (Sweetland Township)
¹ Excludes Indian country located in each area, if any, unless otherwise specified.

* * * * *

§ 81.317 [Amended]

18. Section 81.317 is amended by revising the table heading for “Kansas—SO2” to read “Kansas—1971 Sulfur Dioxide NAAQS (Primary and Secondary)”.

19. Section 81.318 is amended as follows:

a. By revising the table heading for “Kentucky—SO2” to read “Kentucky—1971 Sulfur Dioxide NAAQS (Primary and Secondary)”; and

b. By adding a new table entitled “Kentucky—2010 Sulfur Dioxide NAAQS (Primary)” following the newly designated table “Kentucky—1971 Sulfur Dioxide NAAQS (Primary and Secondary)” to read as follows:

§ 81.318 Kentucky.

* * * * *

Kentucky—2010 Sulfur Dioxide NAAQS (Primary)
Designated area | Designation: Date | Designation: Type
Campbell-Clermont Counties, KY-OH ¹ | 10-4-13 | Nonattainment.
Campbell County (part)
That portion of Campbell County which lies south and west of the Ohio River described as follows: Beginning at geographic coordinates 38.9735 North Latitude, 84.3017 West Longitude (NAD 1983) on the edge of the Ohio River running southwesterly to KY Highway 1566; thence continuing running southwesterly along KY Highway 1566 to KY Highway 9 (AA Highway); thence running north westerly along KY Highway 9 (AA Highway) from Hwy 1566 to Interstate 275; thence running northeasterly along Interstate 275 to Highway 2345 (John's Hill Road), Hwy 2345 to US-27, US-27 to I-275, I-275 to the Ohio River; thence running southeasterly along the Ohio River from Interstate 275 to geographic coordinates 38.9735 North Latitude, 84.3017 West Longitude (NAD 1983)
Jefferson County, KY ¹ | 10-4-13 | Nonattainment.
Jefferson County (part)
That portion of Jefferson County compassed by the polygon with the vertices using Universal Traverse Mercator (UTM) coordinates in UTM zone 16 with datum NAD83 as follows: (1) Ethan Allen Way extended to the Ohio River at UTM Easting (m) 595738, UTM Northing 4214086 and Dixie Highway (US60 and US31W) at UTM Easting (m) 59751, UTM Northing 4212946; (2) Along Dixie Highway from UTM Easting (m) 597515, UTM Northing 4212946 to UTM Easting (m) 595859, UTM Northing 4210678; (3) Near the adjacent property lines of Louisville Gas and Electric—Mill Creek Electric Generating Station and Kosmos Cement where they join Dixie Highway at UTM Easting (m) 595859, UTM Northing 4210678 and the Ohio River at UTM Easting (m) 595326, UTM Northing 4211014; (4) Along the Ohio River from UTM Easting (m) 595326, UTM Northing 4211014 to UTM Easting (m) 595738, UTM Northing 4214086
¹ Excludes Indian country located in each area, if any, unless otherwise specified.

* * * * *

20. Section 81.319 is amended as follows:

a. By revising the table heading for “Louisiana—SO2” to read “Louisiana—1971 Sulfur Dioxide NAAQS (Primary and Secondary)”; and

b. By adding a new table entitled “Louisiana—2010 Sulfur Dioxide NAAQS (Primary)” following the newly designated table “Louisiana—1971 Sulfur Dioxide NAAQS (Primary and Secondary)” to read as follows:

§ 81.319 Louisiana.

* * * * *

Louisiana—2010 Sulfur Dioxide NAAQS (Primary)
Designated area | Designation: Date | Designation: Type
St. Bernard Parish, LA ¹ | 10-4-13 | Nonattainment.
St. Bernard Parish
¹ Excludes Indian country located in each area, if any, unless otherwise specified.

* * * * *

§ 81.320 [Amended]

21. Section 81.320 is amended by revising the table heading for “Maine—SO2” to read “Maine—1971 Sulfur Dioxide NAAQS (Primary and Secondary)”.

§ 81.321 [Amended]

22. Section 81.321 is amended by revising the table heading for “Maryland—SO2” to read “Maryland—1971 Sulfur Dioxide NAAQS (Primary and Secondary)”.

§ 81.322 [Amended]

23. Section 81.322 is amended by revising the table heading for “Massachusetts—SO2” to read “Massachusetts—1971 Sulfur Dioxide NAAQS (Primary and Secondary)”.

24. Section 81.323 is amended as follows:

a. By revising the table heading for “Michigan—SO2” to read “Michigan—1971 Sulfur Dioxide NAAQS (Primary and Secondary)”; and

b. By adding a new table entitled “Michigan—2010 Sulfur Dioxide NAAQS (Primary)” following the newly designated table “Michigan—1971 Sulfur Dioxide NAAQS (Primary and Secondary)” to read as follows:

§ 81.323 Michigan.

* * * * *

Michigan—2010 Sulfur Dioxide NAAQS (Primary)
Designated area | Designation: Date | Designation: Type
Detroit, MI ¹ Wayne County (part) | 10-4-13 | Nonattainment.
The area bounded on the east by the Michigan-Ontario border, on the south by the Wayne County-Monroe County border, on the west by Interstate 75 north to Southfield Road, Southfield Road to Interstate 94, and Interstate 94 north to Michigan Avenue, and on the north by Michigan Avenue to Woodward Avenue and a line on Woodward Avenue extended to the Michigan-Ontario border
¹ Excludes Indian country located in each area, if any, unless otherwise specified.

* * * * *

§ 81.324 [Amended]

25. Section 81.324 is amended by revising the table heading for “Minnesota—SO2” to read “Minnesota—1971 Sulfur Dioxide NAAQS (Primary and Secondary)”.

§ 81.325 [Amended]

26. Section 81.325 is amended by revising the table heading for “Mississippi—SO2” to read “Mississippi—1971 Sulfur Dioxide NAAQS (Primary and Secondary)”.

27. Section 81.326 is amended as follows:

a. By revising the table heading for “Missouri—SO2” to read “Missouri—1971 Sulfur Dioxide NAAQS (Primary and Secondary)”; and

b. By adding a new table entitled “Missouri—2010 Sulfur Dioxide NAAQS (Primary)” following the newly designated table “Missouri—1971 Sulfur Dioxide NAAQS (Primary and Secondary)” to read as follows:

§ 81.326 Missouri.

* * * * *

Missouri—2010 Sulfur Dioxide NAAQS (Primary)
Designated area | Designation: Date | Designation: Type
Jackson County, MO ¹ Jackson County (part) | 10-4-13 | Nonattainment.
The portion of Jackson County bounded by I-70/I-670 and the Missouri River to the north; and, to the west of I-435 to the state line separating Missouri and Kansas
Jefferson County, MO ¹ Jefferson County (part) | 10-4-13 | Nonattainment.
That portion within Jefferson County described by connecting the following four sets of UTM coordinates moving in a clockwise manner:
(Herculaneum USGS Quadrangle) 718360.283 4250477.056 729301.869 4250718.415 729704.134 4236840.30 718762.547 4236558.715
(Festus USGS Quadrangle) 718762.547 4236558.715 729704.134 4236840.30 730066.171 4223042.637 719124.585 4222680.6
(Selma USGS Quadrangle) 729704.134 4236840.30 730428.209 4236840.3 741047.984 4223283.996 730066.171 4223042.637
(Valmeyer USGS Quadrangle) 729301.869 4250718.415 731474.096 4250798.868 730428.209 4236840.3 729704.134 4236840.30
¹ Excludes Indian country located in each area, if any, unless otherwise specified.

* * * * *

28. Section 81.327 is amended as follows:

a. By revising the table heading for “Montana—SO2” to read “Montana—1971 Sulfur Dioxide NAAQS (Primary and Secondary)”; and

b. By adding a new table entitled “Montana—2010 Sulfur Dioxide NAAQS (Primary)” following the newly designated table “Montana—1971 Sulfur Dioxide NAAQS (Primary and Secondary)” to read as follows:

§ 81.327 Montana.

* * * * *

Montana—2010 Sulfur Dioxide NAAQS (Primary)
Designated area | Designation: Date | Designation: Type
Billings, MT ¹
Yellowstone County (part) | 10-4-13 | Nonattainment.
The area originates at the point defined as the southwest corner of Section 11, Township 1S, Range 26E. From that point the boundary proceeds north along the western section line of Section 11 to the point of intersection with the midline of Interstate Highway 90. From that point the boundary follows the midline of Interstate Highway 90, across the Yellowstone River, to the point where the highway midline intersects the northern boundary of Section 35, Township 1N, Range 26E. From that point the boundary proceeds east along the northern section line of Sections 35 and 36 to the point where Old US 87/Hardin Road leaves the section line and turns southeast. The boundary follows the midline of Old US 87/Hardin Road southeast to the point where the road intersects the western boundary of the SE ¼ of the SE ¼ of Section 31, Township 1N, Range 27E. From that point the boundary proceeds south along the ¼ section line to the southern boundary of Township 1N, then east to the northeast corner of Section 5, Township 1S, Range 27E. The boundary then proceeds south along the eastern section line of sections 5 and 8 to the southeast corner of Section 8, Township 1S, Range 27E, where it turns west and follows the south section line of Sections 8 and 7, Township 1S, Range 27E; and Sections 12 and 11, Township 1S, Range 26E, back to the point of origin
¹ Excludes Indian country located in each area, if any, unless otherwise specified.

* * * * *

§ 81.328 [Amended]

29. Section 81.328 is amended by revising the table heading for “Nebraska—SO2” to read “Nebraska—1971 Sulfur Dioxide NAAQS (Primary and Secondary)”.

30. Section 81.329 is amended by revising the table heading for “Nevada—SO2” to read “Nevada—1971 Sulfur Dioxide NAAQS (Primary and Secondary)”.

31. Section 81.330 is amended as follows:

a. By revising the table heading for “New Hampshire—SO2” to read “New Hampshire—1971 Sulfur Dioxide NAAQS (Primary and Secondary)”; and

b. By adding a new table entitled “New Hampshire—2010 Sulfur Dioxide NAAQS (Primary)” following the newly designated table “New Hampshire—1971 Sulfur Dioxide NAAQS (Primary and Secondary)” to read as follows:

§ 81.330 New Hampshire.

* * * * *

New Hampshire—2010 Sulfur Dioxide NAAQS (Primary)
Designated area | Designation: Date | Designation: Type
Central New Hampshire, NH ¹
Hillsborough County (part) | 10-4-13 | Nonattainment.
Goffstown Town
Merrimack County (part)
Allenstown Town, Bow Town, Chichester Town, Dunbarton Town, Epsom Town, Hooksett Town, Loudon Town, Pembroke Town, Pittsfield Town, City of Concord
Rockingham County (part)
Candia Town, Deerfield Town, Northwood Town
¹ Excludes Indian country located in each area, if any, unless otherwise specified.

* * * * *

§ 81.331 [Amended]

32. Section 81.331 is amended by revising the table heading for “New Jersey—SO2” to read “New Jersey—1971 Sulfur Dioxide NAAQS (Primary and Secondary)”.

§ 81.332 [Amended]

33. Section 81.332 is amended by revising the table heading for “New Mexico—SO2” to read “New Mexico—1971 Sulfur Dioxide NAAQS (Primary and Secondary)”.

§ 81.333 [Amended]

34. Section 81.333 is amended by revising the table heading for “New York—SO2” to read “New York—1971 Sulfur Dioxide NAAQS (Primary and Secondary)”.

§ 81.334 [Amended]

35. Section 81.334 is amended by revising the table heading for “North Carolina—SO2” to read “North Carolina—1971 Sulfur Dioxide NAAQS (Primary and Secondary)”.

§ 81.335 [Amended]

36. Section 81.335 is amended by revising the table heading for “North Dakota—SO2” to read “North Dakota—1971 Sulfur Dioxide NAAQS (Primary and Secondary)”.

37. Section 81.336 is amended as follows:

a. By revising the table heading for “Ohio—SO2” to read “Ohio—1971 Sulfur Dioxide NAAQS (Primary and Secondary)”; and

b. By adding a new table entitled “Ohio—2010 Sulfur Dioxide NAAQS (Primary)” following the newly designated table “Ohio—1971 Sulfur Dioxide NAAQS (Primary and Secondary)” to read as follows:

§ 81.336 Ohio.

* * * * *

Ohio—2010 Sulfur Dioxide NAAQS (Primary)
Designated area | Designation: Date | Designation: Type
Campbell-Clermont Counties, KY-OH ¹
Clermont County (part) | 10-4-13 | Nonattainment.
Lake County, OH ¹
Lake County | 10-4-13 | Nonattainment.
Muskingum River, OH ¹ | 10-4-13 | Nonattainment.
Morgan County (part)
Center Township
Washington County (part)
Waterford Township
Steubenville OH-WV¹
Jefferson County (part) | 10-4-13 | Nonattainment.
Cross Creek Township, Steubenville Township, Warren Township, Wells Township, Steubenville City
¹ Excludes Indian country located in each area, if any, unless otherwise specified.

* * * * *

§ 81.337 [Amended]

38. Section 81.337 is amended by revising the table heading for “Oklahoma—SO2” to read “Oklahoma—1971 Sulfur Dioxide NAAQS (Primary and Secondary)”.

§ 81.338 [Amended]

39. Section 81.338 is amended by revising the table heading for “Oregon—SO2” to read “Oregon—1971 Sulfur Dioxide NAAQS (Primary and Secondary)”.

40. Section 81.339 is amended as follows:

a. By revising the table heading for “Pennsylvania—SO2” to read “Pennsylvania—1971 Sulfur Dioxide NAAQS (Primary and Secondary)”; and

b. By adding a new table entitled “Pennsylvania—2010 Sulfur Dioxide NAAQS (Primary)” following the newly designated table “Pennsylvania—1971 Sulfur Dioxide NAAQS (Primary and Secondary)” to read as follows:

§ 81.339 Pennsylvania.

* * * * *

Pennsylvania—2010 Sulfur Dioxide NAAQS (Primary)
Designated area | Designation: Date | Designation: Type
Allegheny, PA ¹
Allegheny County (part) | 10-4-13 | Nonattainment.
The area consisting of: Borough of Braddock Borough of Dravosburg Borough of East McKeesport Borough of East Pittsburgh Borough of Elizabeth Borough of Glassport Borough of Jefferson Hills Borough of Liberty Borough of Lincoln Borough of North Braddock Borough of Pleasant Hills Borough of Port Vue Borough of Versailles Borough of Wall Borough of West Elizabeth Borough of West Mifflin City of Clairton City of Duquesne City of McKeesport Elizabeth Township Forward Township North Versailles Township
Beaver, PA ¹
Beaver County (part) | 10-4-13 | Nonattainment.
Area consisting of Industry Borough, Shippingport Borough, Midland Borough, Brighton Township, Potter Township and Vanport Township
Indiana, PA¹ | 10-4-13 | Nonattainment.
Indiana County
Armstrong County (part)
Area consisting of Plumcreek Township, South Bend Township, and Elderton Borough
Warren, PA ¹
Warren County (part) | 10-4-13 | Nonattainment
Area consisting of Conewango Township, Glade Township, Pleasant Township, and the City of Warren
¹ Excludes Indian country located in each area, if any, unless otherwise specified.

* * * * *

§ 81.340 [Amended]

41. Section 81.340 is amended by revising the table heading for “Rhode Island—SO2” to read “Rhode Island—1971 Sulfur Dioxide NAAQS (Primary and Secondary)”.

§ 81.341 [Amended]

42. Section 81.341 is amended by revising the table heading for “South Carolina—SO2” to read “South Carolina—1971 Sulfur Dioxide NAAQS (Primary and Secondary)”.

§ 81.342 [Amended]

43. Section 81.342 is amended by revising the table heading for “South Dakota—SO2” to read “South Dakota—1971 Sulfur Dioxide NAAQS (Primary and Secondary)”.

44. Section 81.343 is amended as follows:

a. By revising the table heading for “Tennessee—SO2” to read “Tennessee—1971 Sulfur Dioxide NAAQS (Primary and Secondary)”; and

b. By adding a new table entitled “Tennessee—2010 Sulfur Dioxide NAAQS (Primary)” following the newly designated table “Tennessee—1971 Sulfur Dioxide NAAQS (Primary and Secondary)” to read as follows:

§ 81.343 Tennessee.

* * * * *

Tennessee—2010 Sulfur Dioxide NAAQS (Primary)
Designated area | Designation: Date | Designation: Type
Sullivan County, TN ¹
Sullivan County (part) | 10-4-13 | Nonattainment.
That portion of Sullivan County encompassing a circle having its center at the B-253 power house coordinates 36.5186 N; 82.5350 W and having a 3-kilometer radius
¹ Excludes Indian country located in each area, if any, unless otherwise specified.

* * * * *

§ 81.344 [Amended]

45. Section 81.344 is amended by revising the table heading for “Texas—SO2” to read “Texas—1971 Sulfur Dioxide NAAQS (Primary and Secondary)”.

§ 81.345 [Amended]

46. Section 81.345 is amended by revising the table heading for “Utah—SO2” to read “Utah—1971 Sulfur Dioxide NAAQS (Primary and Secondary)”.

§ 81.346 [Amended]

47. Section 81.346 is amended by revising the table heading for “Vermont—SO2” to read “Vermont—1971 Sulfur Dioxide NAAQS (Primary and Secondary)”.

§ 81.347 [Amended]

48. Section 81.347 is amended by revising the table heading for “Virginia—SO2” to read “Virginia—1971 Sulfur Dioxide NAAQS (Primary and Secondary)”.

§ 81.348 [Amended]

49. Section 81.348 is amended by revising the table heading for “Washington—SO2” to read “Washington—1971 Sulfur Dioxide NAAQS (Primary and Secondary)”.

50. Section 81.349 is amended as follows:

a. By revising the table heading for “West Virginia—SO2” to read “West Virginia—1971 Sulfur Dioxide NAAQS (Primary and Secondary)”; and

b. By adding a new table entitled “West Virginia—2010 Sulfur Dioxide NAAQS (Primary)” following the newly designated table “West Virginia—1971 Sulfur Dioxide NAAQS (Primary and Secondary)” to read as follows:

§ 81.349 West Virginia.

* * * * *

West Virginia—2010 Sulfur Dioxide NAAQS (Primary)
Designated area | Designation: Date | Designation: Type
Steubenville, OH-WV ¹
Brooke County (part) | 10-4-13 | Nonattainment.
Area bounded by the Cross Creek Tax District
Marshall, WV ¹
Marshall County (part) | 10-4-13 | Nonattainment.
Area consisting of Clay Tax district, Franklin Tax District, and Washington Tax District
¹ Excludes Indian country located in each area, if any, unless otherwise specified.

* * * * *

51. Section 81.350 is amended as follows:

a. By revising the table heading for “Wisconsin—SO2” to read “Wisconsin—1971 Sulfur Dioxide NAAQS (Primary and Secondary)”; and

b. By adding a new table entitled “Wisconsin—2010 Sulfur Dioxide NAAQS (Primary)” following the newly designated table “Wisconsin—1971 Sulfur Dioxide NAAQS (Primary and Secondary)” to read as follows:

§ 81.350 Wisconsin.

* * * * *

Wisconsin—2010 Sulfur Dioxide NAAQS (Primary)
Designated area | Designation: Date | Designation: Type
Rhinelander, WI¹
Oneida County (part) | 10-4-13 | Nonattainment.
City of Rhinelander, Crescent Town, Newbold Town, Pine Lake Town, and Pelican Town
¹ Excludes Indian country located in each area, if any, unless otherwise specified.

* * * * *

§ 81.351 [Amended]

52. Section 81.351 is amended by revising the table heading for “Wyoming—SO2” to read “Wyoming—1971 Sulfur Dioxide NAAQS (Primary and Secondary)”.

§ 81.352 [Amended]

53. Section 81.352 is amended by revising the table heading for “American Samoa—SO2” to read “American Samoa—1971 Sulfur Dioxide NAAQS (Primary and Secondary)”.

§ 81.353 [Amended]

54. Section 81.353 is amended by revising the table heading for “Guam—SO2” to read “Guam—1971 Sulfur Dioxide NAAQS (Primary and Secondary)”.

§ 81.354 [Amended]

55. Section 81.354 is amended by revising the table heading for “Northern Mariana Islands—SO2” to read “Northern Mariana Islands—1971 Sulfur Dioxide NAAQS (Primary and Secondary)”.

§ 81.355 [Amended]

56. Section 81.355 is amended by revising the table heading for “Puerto Rico—SO2” to read “Puerto Rico—1971 Sulfur Dioxide NAAQS (Primary and Secondary)”.

§ 81.356 [Amended]

57. Section 81.356 is amended by revising the table heading for “Virgin Islands—SO2” to read “Virgin Islands—1971 Sulfur Dioxide NAAQS (Primary and Secondary)”.

[FR Doc. 2013-18835 Filed 8-2-13; 8:45 am]

BILLING CODE 6560-50-P